DEPARTMENT OF HEALTH AND HUMAN SERVICES

National Institutes of Health

Proposed Collection; Comment Request; Aggression Prevention Among High-Risk Early Adolescents

SUMMARY: In compliance with the requirement of Section 3506(c)(2)(A) of the Paperwork Reduction Act of 1995, for opportunity for public comment on proposed data collection projects, the National Institute of Child Health and Human Development (NICHD), the National Institutes of Health (NIH) will publish periodic summaries of proposed projects to be submitted to the Office of Management and Budget (OMB) for review and approval. This proposed information collection was previously published in the Federal Register on June 20, 2006, pages 35437-35438, and allowed 60-days for public comment. No public comments were received. The purpose of this notice is to allow an additional 30 days for public comment. The National Institutes of Health may not conduct or sponsor, and the respondent is not required to respond to, an information collection that has been extended, revised, or implemented on or after October 1, 1995, unless it displays a currently valid OMB control number.

Proposed Collection

Title: Aggression Prevention Among High-Risk Early Adolescents Study.

Type of Information Collection Request: Extension, OMB control number 0925-0523, expiration date 9/30/2006. Use of Information: This study will assess the efficacy of an in-school, group-mentoring intervention designed to foster academic engagement and prevent aggressive and deviant behavior among early adolescent (approximately ages 11-12). The primary objectives of the study are to determine if participation in a weekly group-mentoring program during 6th grade significantly impacts adolescents' attitudes and behaviors regarding school engagement and aggression above and beyond educational materials for youth and parents. The findings will provide valuable information concerning: (1) The efficacy of in-school group-mentoring programs for improving youth attitudes, expectations, intent/motivation, and social competence; and (2) the extent to which such improvement increases academic engagement and decreases aggressive and deviant behavior among high-risk youth.

Frequency of Response: 3 times for youth; 1 time for parents. Affected Public Individuals or households.

Type of Respondents: Adolescents and parents/guardians. The annual reporting burden is as follows:

Estimated Number of Respondents: 427 early adolescents and 150 parents; Estimated Number of Responses per Respondent: 2 for 6th graders, 1 for parents; Average Burden Hours Per Response: 1; and Estimated Total Annual Burden Hours Requested: 1177. There are no Capital Costs, Operating Costs, and/or Maintenance Costs to report.

Type of respondents | Estimated number of respondents | Estimated number of responses per respondent | Average burden hours per response | Estimated total annual burden hours requested
6th graders | 300 | 2 | 1.0 | 600
7th graders | 277 | 1 | 1.0 | 277
Parents/guardian | 300 | 1 | 1.0 | 300
Total | 877 |  |  | 1177

Request for Comments: Written comments and/or suggestions from the public and affected agencies should address one or more of the following points: (1) Evaluate whether the proposed collection of information is necessary for the proper performance of the function of the agency, including whether the information will have practical utility; (2) Evaluate the accuracy of the agency's estimate of the burden of the proposed collection of information, including the validity of the methodology and assumptions used; (3) Enhance the quality, utility, and clarity of the information to be collected; and (4) Minimize the burden of the collection of information on those who are to respond, including the use of appropriate automated, electronic, mechanical, or other technological collection techniques or other forms of information technology.

FOR FURTHER INFORMATION CONTACT: To request more information on the proposed project or to obtain a copy of the data collection plans and instruments, contact Bruce Simons-Morton, Ed.D, 6100 Executive Blvd., Suite 7B13M, Rockville, MD 20852. Telephone 301-493-5674. E-mail: mortonb@mail.nih.gov.

Comments Due Date: Comments regarding this information collection are best assured of having their full effect if received within 30-days of the date of this publication.

Dated: October 4, 2006.
Paul Johnson,
NICHD Project Clearance Liaison, National Institutes of Health.

[FR Doc. 06-8653 Filed 10-12-06; 8:45 am]

BILLING CODE 4140-01-M